DEPARTMENT OF COMMERCE

International Trade Administration

[A-570-863]

Seventh Administrative Review of Honey From the People's Republic of China: Extension of Time Limit for the Preliminary Results

AGENCY: Import Administration, International Trade Administration, Department of Commerce.

DATES: Effective Date: August 18, 2009.

FOR FURTHER INFORMATION CONTACT: Blaine Wiltse, AD/CVD Operations, Office 9, Import Administration, International Trade Administration, U.S. Department of Commerce, 14th Street and Constitution Avenue, NW, Washington DC 20230; telephone- (202) 482-6345.

SUPPLEMENTARY INFORMATION:

Background

On February 2, 2009, the Department of Commerce (“Department”) published a notice of initiation of an administrative review of honey from the People's Republic of China (“PRC”), covering the period December 1, 2007 through November 30, 2008. See Initiation of Antidumping and Countervailing Duty Administrative Reviews and Requests for Revocation in Part, 74 FR 5821 (February 2, 2009). On March 6, 2009, after receiving comments on U.S. Customs and Border Protection data, the Department selected Anhui Native Produce Import & Export Corp. (“Anhui Native”) and Qinhuangdao Municipal Dafeng Industrial Co., Ltd. (“QMD”) as the mandatory respondents for this review.

The Department sent its antidumping questionnaire to Anhui Native and QMD on March 9, 2009. The Department was unable to deliver its questionnaire to QMD due to incorrect addresses. See Memorandum to the File from Blaine Wiltse, Case Analyst, RE: Seventh Administrative Review of Honey from the People's Republic of China (“PRC”): Incorrect Addresses for QMD, dated March 27, 2009. On March 30, 2009, Dongtai Peak Honey Industry Co., Ltd. (“Dongtai Peak”) requested treatment as a voluntary respondent, and submitted its Section A response to the Department. On April 13, 2009, the Department selected Dongtai Peak as a voluntary respondent for this review. On April 14, 2009, Dongtai Peak submitted its Sections C and D response to the Department. On April 15, 2009, Anhui Native withdrew its participation from the current review. On June 8, 2009, and June 16, 2009, the Department sent its Supplemental Sections A, C, and D Questionnaire and its Importer Specific Supplemental Questionnaire to Dongtai Peak. On July 8, 2009, and July 13, 2009, Dongtai Peak submitted its response to the Department's Importer Specific Supplemental Questionnaire and Supplemental Sections A, C, and D Questionnaire. The preliminary results of this administrative review are currently due on September 2, 2009.

Extension of Time Limit for the Preliminary Results

The Department determines that completion of the preliminary results of this review within the statutory time period is not practicable. The Department requires more time to gather and analyze surrogate value information pertaining to this company. Additionally, the Department intends to provide additional time for interested parties to provide comments on supplemental questionnaires and suggested surrogate values. Lastly, the Department requires additional time to analyze the questionnaire responses and to issue additional supplemental questionnaires, if necessary. Therefore, in accordance with section 751(a)(3)(A) of the Tariff Act of 1930, as amended (“Act”), we are extending the time period for issuing the preliminary results of review by 60 days until November 2, 2009.¹ The final results continue to be due 120 days after the publication of the preliminary results.

¹ Sixty days from September 2, 2009, is November 1, 2009. However, Department practice dictates that where a deadline falls on a weekend, the appropriate deadline is the next business day. See Notice of Clarification: Application of “Next Business Day” Rule for Administrative Determination Deadlines Pursuant to the Tariff Act of 1930, As Amended, 70 FR 24533 (May 10, 2005).

This notice is published pursuant to section 751(a)(3)(A) of the Act and 19 CFR 351.213(h)(2).

Dated: August 12, 2009.
John M. Andersen,
Acting Deputy Assistant Secretary for Antidumping and Countervailing Duty Operations.

[FR Doc. E9-19780 Filed 8-17-09; 8:45 am]

BILLING CODE 3510-DS-S